DEPARTMENT OF AGRICULTURE

Animal and Plant Health Inspection Service

[Docket No. APHIS-2010-0078]

Availability of an Environmental Assessment and Finding of No Significant Impact for a Biological Control Agent for Hawkweeds

AGENCY: Animal and Plant Health Inspection Service, USDA.

ACTION: Notice.

SUMMARY: We are advising the public that the Animal and Plant Health Inspection Service (APHIS) has prepared an environmental assessment and finding of no significant impact relative to the release of the hawkweed gall wasp, Aulacidea subterminalis, into the continental United States as a biological control agent to reduce the severity of infestations of hawkweeds (Hieracium spp.). Based on its finding of no significant impact, APHIS has determined that an environmental impact statement need not be prepared.

FOR FURTHER INFORMATION CONTACT: Dr. Shirley A. Wager-Page, Chief, Pest Permitting Branch, Plant Health Programs, PPQ, APHIS, 4700 River Road, Unit 133, Riverdale, MD 20737-1237; (301) 734-8453.

SUPPLEMENTARY INFORMATION:

Background

The Animal and Plant Health Inspection Service (APHIS) is proposing to issue permits for the release of the hawkweed gall wasp, Aulacidea subterminalis, into the continental United States for the biological control of hawkweeds (Hieracium pilosella, H. aurantiacum, H. floribundum, and H. flagellare).

On October 21, 2010, we published in the Federal Register (75 FR 64984-64985, Docket No. APHIS-2010-0078) a notice ¹ in which we announced the availability, for public review and comment, of an environmental assessment (EA) that examined the potential environmental impacts associated with the proposed release of this biological control agent into the continental United States.

¹ To view the notice, EA, FONSI, and response to comments, go to http://www.regulations.gov/fdmspublic/component/main?main=DocketDetail&d=APHIS-2010-0078.

We solicited comments on the EA for 30 days ending November 22, 2010. We received four comments, from a State agriculture department, a State conservation association, the U.S. Fish and Wildlife Service, and an anonymous commenter. Our responses to the issues raised in the comments can be found in Appendix 5 of the final EA (see footnote 1).

In this document, we are advising the public of our finding of no significant impact (FONSI) regarding the release of the hawkweed gall wasp into the continental United States for use as a biological control agent for the control of hawkweeds. The finding, which is based on the EA, reflects our determination that release of this biological control agent will not have a significant impact on the quality of the human environment.

The EA and FONSI may be viewed on the Regulations.gov Web site (see footnote 1). Copies of the EA and FONSI are also available for public inspection at USDA, room 1141, South Building, 14th Street and Independence Avenue, SW., Washington, DC, between 8 a.m. and 4:30 p.m., Monday through Friday, except holidays. Persons wishing to inspect copies are requested to call ahead on (202) 690-2817 to facilitate entry into the reading room. In addition, copies may be obtained by calling or writing the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 7th day of March 2011.
Kevin Shea,
Acting Administrator, Animal and Plant Health Inspection Service.

[FR Doc. 2011-5714 Filed 3-11-11; 8:45 am]

BILLING CODE 3410-34-P